SOCIAL SECURITY ADMINISTRATION

[Docket No. SSA-2012-0035]

Rescission of Social Security Rulings 96-2p, 96-5p, and 06-3p

AGENCY: Social Security Administration.

ACTION: Notice of rescission of Social Security Rulings.

SUMMARY: In accordance with 20 CFR 402.35(b)(1), the Acting Commissioner of Social Security gives notice of the rescission of Social Security Rulings (SSR) 96-2p, 96-5p, and 06-03p.

DATES: Effective Date: This rescission will be effective for claims filed on or after March 27, 2017.

FOR FURTHER INFORMATION CONTACT: Joshua Silverman, Office of Disability Policy, Social Security Administration, 6401 Security Boulevard, Baltimore, MD 21235-6401, (410) 594-2128. For information on eligibility or filing for benefits, call our national toll-free number 1-800-772, 1213, or TTY 1-800-325-0778, or visit our Internet site, Social Security Online, at http://www.socialsecurity.gov.

SUPPLEMENTARY INFORMATION: Although 5 U.S.C. 552(a)(1) and (a)(2) do not require us to publish this notice, we are doing so in accordance with 20 CFR 402.35(b)(1).

Through SSRs, we make available to the public precedential decisions relating to the Federal old-age, survivors, disability, supplemental security income, and special veterans benefits programs. We may base SSRs on determinations or decisions made at all levels of administrative adjudication, Federal court decisions, Commissioner's decisions, opinions of the Office of the General Counsel, or other interpretations of the law and regulations.

We are rescinding the following SSRs:

• SSR 96-2p: Titles II and XVI: Giving Controlling Weight to Treating Source Medical Opinions.

• SSR 96-5p: Titles II and XVI: Medical Source Opinions on Issues Reserved to the Commissioner.

• SSR 06-03p: Titles II and XVI: Considering Opinions and Other Evidence from Sources Who Are Not “Acceptable Medical Sources” in Disability Claims; Considering Decisions on Disability by Other Governmental and Nongovernmental Agencies.

These three SSRs are inconsistent or unnecessarily duplicative with our recent final rules, Revisions to Rules Regarding the Evaluation of Medical Evidence, published in the Federal Register on January 18, 2017 (82 FR 5844).

SSR 96-2p explained how adjudicators should evaluate medical opinions from treating sources, including when it is appropriate to give controlling weight to medical opinions from treating sources. The final rules revised these policies for claims filed on or after March 27, 2017, in several ways. For example, adjudicators will not assign a weight, including controlling weight, to any medical opinion for claims filed on or after March 27, 2017. Therefore, this SSR is inconsistent with the final rules.

SSR 96-5p explained how adjudicators should consider and articulate their consideration of medical source opinions on issues reserved to the Commissioner in the notice of the determination or decision. The final rules revised these policies for claims filed on or after March 27, 2017, in several ways. For example, in claims filed on or after March 27, 2017, adjudicators will not provide any articulation about their consideration of this evidence because it is inherently neither valuable nor persuasive to us. Therefore, this SSR is inconsistent with the final rules.

SSR 06-03p explained how we consider opinions and other evidence from sources who are not acceptable medical sources and how we consider decisions by other governmental and nongovernmental agencies on the issue of disability or blindness. The final rules revised these policies for claims filed on or after March 27, 2017, in several ways. For example, in claims filed on or after March 27, 2017, the final rules state that all medical sources, not just acceptable medical sources, can make evidence that we categorize and consider as medical opinions. Also, in claims filed on or after March 27, 2017, the final rules state that adjudicators will not provide any articulation about their consideration of decisions from other governmental agencies and nongovernmental entities because this evidence is inherently neither valuable nor persuasive to us. Therefore, this SSR is inconsistent with the final rules.

(Catalog of Federal Domestic Assistance, Programs Nos. 96.001, Social Security—Disability Insurance; 96.002, Social Security—Retirement Insurance; 96.004, Social Security—Survivors Insurance; 96.006—Supplemental Security Income.)

Nancy A. Berryhill,
Acting Commissioner of Social Security.

[FR Doc. 2017-05958 Filed 3-24-17; 8:45 am]

BILLING CODE 4191-02-P